DEPARTMENT OF JUSTICE

National Institute of Corrections

Amendment to a Solicitation for a Cooperative Agreement—Strategic Planning and Response

AGENCY: National Institute of Corrections, DOJ.

ACTION: Amendment to Solicitation for a Cooperative Agreement—Strategic Planning and Response—NIC Application Number 02P09.

SUMMARY: A solicitation for a cooperative agreement called Strategic Planning and Response—NIC Application Number 02P09—was published in the Federal Register on April 26, 2002 (Volume 67, Number 81). On page 20832, Item 6 under Specific Requirements, the following sentence is deleted: “Additional credit will be given during the evaluation process to applicants who can demonstrate their ability to work collaboratively from their previous work.”

There are no other changes.

Dated: May 10, 2002.
Larry Solomon,
Deputy Director, National Institute of Corrections.

[FR Doc. 02-12213 Filed 5-15-02; 8:45 am]

BILLING CODE 4410-36-M